SOCIAL SECURITY ADMINISTRATION

Privacy Act of 1974; as Amended; New System of Records and New Routine Use Disclosures

AGENCY: Social Security Administration.

ACTION: New system of records and proposed routine uses.

SUMMARY: In accordance with the Privacy Act (5 U.S.C. 552a(e)(4) and (e)(11)), we are issuing public notice of our intent to establish a new system of records, the Medicare Savings Programs Information System, 60-0310 and routine uses applicable to this system.

The Consolidated Appropriations Act, 2001, Appendix F, section 911 amended the Social Security Act by adding section 1144. Section 1144 of the Social Security Act requires the Commissioner of Social Security to conduct outreach efforts to identify individuals entitled to benefits under the Medicare program under title XVIII who may be eligible for medical assistance for payment of the cost of Medicare cost-sharing under the Medicaid program.

DATES: We filed a report of the proposed new system of records and routine uses with the Chairman of the Senate Committee on Governmental Affairs, the Chairman of the House Reform Committee, and the Director, Office of Information and Regulatory Affairs, Office of Management and Budget (OMB) on May 10, 2002. The proposed system will become effective on June 19, 2002, unless we receive comments that would result in a contrary determination.

ADDRESSES: Interested individuals may comment on this publication by writing to the SSA Privacy Officer, Social Security Administration, 3-A-6 Operations Building, 6401 Security Boulevard, Baltimore, Maryland 21235-6401. All comments received will be available for public inspection at the above address.

FOR FURTHER INFORMATION CONTACT: Ms. Pamela McLaughlin, Social Insurance Specialist, Social Security Administration, Room 3-C-2 Operations Building, 6401 Security Boulevard, Baltimore, Maryland 21235-6401, telephone (410) 965-3677, e-mail: pam.mclaughlin@ssa.gov.

SUPPLEMENTARY INFORMATION:

I. Background and Purpose of the Proposed New System of Records, the Medicare Savings Programs Information System

A. General Background

On December 21, 2000, the President signed into law the Medicare, Medicaid, and State Children's Health Insurance Program (SCHIP) Benefits Improvement and Protection Act of 2000, as Appendix F of Public Law 106-554, the Consolidated Appropriations Act, 2001. Section 911 of Appendix F amended title XI of the Social Security Act by adding section 1144, which requires the Commissioner of Social Security to conduct outreach efforts to identify individuals entitled to benefits under the Medicare program under title XVIII who may be eligible for medical assistance for payment of the cost of Medicare cost-sharing under the Medicaid program.

In conducting the outreach efforts, the Agency shall furnish the agency of each State responsible for the administration of the Medicaid program and any other appropriate State agency with information consisting of the name and address of individuals residing in the State that the Agency determines may be eligible for medical assistance for payment of the cost of Medicare cost-sharing under the Medicaid program. Additionally, information may be disclosed to the General Accounting Office for its evaluation of the effort as required by the statute.

B. Collection and Maintenance of Data for the Proposed New System of Records, the Medicare Savings Programs Information System

The proposed system will maintain relevant information about Social Security beneficiaries who either meet, or are about to meet, the requirements for Medicare (i.e., attained age 65; disabled Social Security beneficiaries who have received 24 months of Social Security benefits); and for beneficiaries who have a disabling impairment(s) who lost entitlement to free Medicare Part A because of work; and certain individuals who suffer from end-stage renal disease. Information will be collected from existing SSA systems of records (e.g., Master Beneficiary Record, 60-0090 and the Supplemental Security Income Record and Special Veterans Benefits, 60-0103 and other sources available to SSA, such as, the Veterans Administration and the Office of Personnel Management benefits files) and may be stored in paper form or magnetic media (e.g., discs). The data will be indexed and retrieved by SSN.

II. Proposed Routine Use Disclosures of Data Maintained in the Proposed New System of Records, the Medicare Savings Programs Information System

A. Proposed Routine Use Disclosures

We are proposing to establish routine uses of information that will be maintained in the proposed new system as discussed below.

1. To the Office of the President for the purpose of responding to an individual pursuant to an inquiry received from that individual or from a third party on his or her behalf.

We will disclose information under this routine use only in situations in which an individual may contact the Office of the President, seeking that office's assistance in a SSA matter on his or her behalf. Information would be disclosed when the Office of the President makes an inquiry and presents evidence that the office is acting on behalf of the individual whose record is requested.

2. To a congressional office in response to an inquiry from that office made at the request of the subject of a record.

We will disclose information under this routine use only in situations in which an individual may ask his or her congressional representative to intercede in an SSA matter on his or her behalf. Information would be disclosed when the congressional representative makes an inquiry and presents evidence that he or she is acting on behalf of the individual whose record is requested.

3. To third parties in situations where the party to be contacted has, or is expected to have, information relating to an individual's eligibility for, or entitlement to, benefits under a Social Security Act program when the data are needed to establish the validity of evidence or to verify the accuracy of information presented by the individual, and it concerns one or more of the following:

(a) His or her eligibility for benefits under a Social Security Act program;

(b) The amount of his or her benefit payment;

(c) Any case in which the evidence is being reviewed as a result of suspected fraud, concern for program integrity, quality appraisal, or evaluation and measurement activities.

We will disclose information under this routine use only as necessary to enable SSA to obtain information that will assist State or local governments (or their agents) in determining individuals' eligibility for medical assistance for payment of the cost of Medicare cost-sharing under the Medicaid programs.

4. To State and local agencies (or agents on their behalf), for the purpose of assisting SSA in the efficient administration of its programs

We will disclose information under this routine use to State or local agencies to assist such agencies in administration of the Medicare Savings Programs. The purpose of this disclosure is to assist the agencies in establishing individuals' eligibility for such programs, to provide information necessary to enforce eligibility restrictions in such programs, and to combat and prevent fraud, waste and abuse in those programs.

5. To the Department of Justice (DOJ), a court, or other tribunal, or other party before such tribunal, when:

(a) SSA, or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components is party to litigation or has an interest in such litigation, and SSA determines that the use of such records by DOJ, a court, or other tribunal is relevant and necessary to the litigation, provided, however, that in each case, SSA determines that such disclosure is compatible with the purpose for which the records were collected.

Wage and other information which are subject to the disclosure provisions of the Internal Revenue Code (IRC) (26 U.S.C. 6103) will not be disclosed under this routine use unless disclosure is expressly permitted by the IRC.

We will disclose information under this routine use only as necessary to enable DOJ, a court, or other tribunal, to effectively defend SSA disability beneficiaries and recipients.

6. To student volunteers and other workers, who technically do not have the status of Federal employees, when they are performing work for SSA as authorized by law, and they need access to personally identifiable information in SSA records in order to perform their assigned Agency functions.

Under certain Federal statutes, SSA is authorized to use the service of volunteers and participants in certain educational, training, employment and community service programs. Examples of such statutes and programs are: 5 U.S.C. 311 regarding student volunteers; and 42 U.S.C. 2753 regarding the College Work-Study Program. We contemplate disclosing information under this routine use only when SSA uses the services of these individuals and they need access to information in this system to perform their assigned duties.

7. Non-tax return information which is not restricted from disclosure by federal law may be disclosed to the General Services Administration (GSA) and the National Archives and Records Administration (NARA) under 44 U.S.C. 2904 and 2906, as amended by NARA Act of 1984, for the use of those agencies in conducting records management studies.

The Administrator of GSA and the Archivist of NARA are charged by 44 U.S.C. 2904, as amended, with promulgating standards, procedures and guidelines regarding record management and conducting records management studies. 44 U.S.C. 2906, as amended, provides that GSA and NARA are to have access to federal agencies' records and that agencies are to cooperate with GSA and NARA. In carrying out these responsibilities, it may be necessary for GSA and NARA to have access to information in this proposed system of records. In such instances, the routine use will facilitate disclosure.

B. Compatibility of Proposed Routine Uses

The Privacy Act (5 U.S.C. 552a(b)(3)) and our disclosure regulations (20 CFR part 401) permit us to disclose information under a published routine use for a purpose, which is compatible with the purpose for which we collected the information. Section 401.150(c) of the regulations permits us to disclose information under a routine use where necessary to carry out SSA programs. Section 401.120 of the regulations provides that we will disclose information when a law specifically requires the disclosure. The proposed routine uses, numbered 1-6 above, will ensure efficient administration of the Medicare Savings Programs; the disclosure that would be made under routine use number 7 is required by Federal law. Thus, all of the routine uses are appropriate and meet the relevant statutory and regulatory criteria.

III. Records Storage Medium and Safeguards for the Proposed New System, the Medicare Savings Programs Information System

We will maintain information in the proposed system of records in electronic and paper form. Only authorized SSA personnel and contractor personnel who have a need for the information in the performance of their official duties will be permitted access to the information. Security measures include the use of access codes to enter the computer systems that will maintain the data, and storage of the computerized records in secured areas that are accessible only to employees who require the information in performing their official duties. Any manually maintained records will be kept in locked cabinets or in otherwise secure areas. Contractor personnel having access to data in the proposed system of records will be required to adhere to SSA rules concerning safeguards, access and use of the data.

SSA and contractor personnel having access to the data on this system will be informed of the criminal penalties of the Privacy Act for unauthorized access to or disclosure of information maintained in this system. See 5 U.S.C. 552a(i)(1).

IV. Effect of the Proposed System of Records, the Medicare Savings Programs Information System on the Rights of Individuals

The proposed system will maintain information to determine a beneficiary's potential eligibility for Medicare Part B buy-in or for subsidized purchase of Medicare Part A. Information kept in the system will be used to increase Medicare buy-in applications and enrollments, and may be used by the General Accounting Office (GAO) for its evaluation of the effort as required by the statute. Therefore, we do not anticipate that the proposed system of records will have an unwarranted adverse effect on the rights of individuals.

Dated: May 10, 2002.
Jo Anne B. Barnhart,
Commissioner.

60-0310

System name:

Medicare Savings Programs Information System, Social Security Administration, Office of Program Benefits.

Security classification:

None.

System location:

Social Security Administration, Office of Systems Operations, 6401 Security Boulevard, Baltimore, Maryland 21235.

Categories of individuals covered by the system:

All Social Security beneficiaries who have attained age 65 or are about to attain age 65, disabled Social Security beneficiaries who have received 24 months of Social Security benefits, beneficiaries with a disabling impairment(s) who lost entitlement to free Medicare Part A because of work and certain individuals who suffer from end-stage renal disease.

Categories of records in the system:

This system contains information about the beneficiary from records available to SSA. This information may include the individual's name, Social Security number (SSN), date of birth, address, marital status and income. Information will be obtained from other SSA systems of records (e.g., Master Beneficiary Record, 60-0090, Supplemental Security Income Record and Special Veterans Benefits, 60-0103 and from other databases available to SSA, such as the Veterans

Administration and Office of Personnel Management benefits files:

Authority for maintenance of the system:

Section 1144 of the Social Security Act (42 U.S.C. 1320b-14) as added by Public Law 106-554, the Consolidated Appropriations Act, 2001.

Purpose(s):

Information in this system will be used to determine a beneficiary's potential eligibility for Medicare Part B buy-in or for subsidized purchase of Medicare Part A. Information kept in the system will be used to increase Medicare buy-in applications and enrollments, and may be used by the General Accounting Office (GAO) for its evaluation of the effort as required by the statute.

Routine uses of records maintained in the system, including categories of users and the purpose of such uses:

Disclosure may be made for routine uses as indicated below. However, disclosure of information constituting “return or return information” within the scope of the Internal Revenue Code (IRC) (26 U.S.C. 6103) will not be disclosed unless disclosure is authorized by that statute.

1. To the Office of the President for the purpose of responding to an individual pursuant to an inquiry received from that individual or from a third party on his or her behalf.

2. To a congressional office in response to an inquiry from that office made at the request of the subject of a record.

3. To third parties in situations where the party to be contacted has, or is expected to have, information relating to the individual's eligibility for, or entitlement to, benefits under a Social Security Act program when the data are needed to establish the validity of evidence or to verify the accuracy of information presented by the individual, and it concerns one or more of the following:

(a) His or her eligibility for benefits under a Social Security Act program;

(b) The amount of his or her benefit payment;

(c) Any case in which the evidence is being reviewed as a result of suspected fraud, concern for program integrity, quality appraisal, or evaluation and measurement activities.

4. To State or local agencies (or agents on their behalf), for the purpose of assisting SSA in the efficient administration of its programs.

5. To the Department of Justice (DOJ), a court, or other tribunal, or other third party before such tribunal when:

(a) SSA, or any component thereof, or

(b) Any SSA employee in his/her official capacity; or

(c) Any SSA employee in his/her individual capacity where DOJ (or SSA where it is authorized to do so) has agreed to represent the employee; or

(d) The United States or any agency thereof where SSA determines that the litigation is likely to affect the operations of SSA of any of its components is party to litigation or has an interest in such litigation, and SSA determines that the use of such records by DOJ, the court or other tribunal is relevant and necessary to the litigation, provided, however, that in each case, SSA determines that such disclosure is compatible with the purpose for which the records were collected.

Wage and other information which are subject to the disclosure provisions of the IRC (26 U.S.C. 6103) will not be disclosed under this routine use unless disclosure is expressly permitted by the IRC.

6. To student volunteers and other workers, who technically do not have the status of Federal employees, when they are performing work for SSA as authorized by law, and they need access to personally identifiable information in SSA records in order to perform their assigned Agency functions.

7. Non-tax return information which is not restricted from disclosure by Federal law may be disclosed to the General Services Administration (GSA) and the National Archives and Records Administration (NARA) under 44 U.S.C. 2904 and 2906, as amended by the NARA Act of 1984, for the use of those agencies in conducting records management studies.

Policies and practices for storing, retrieving, accessing, retaining and disposing of records in the system:

Storage:

Data may be stored in paper form and on magnetic media (e.g., discs).

Retrievability:

Records in this system are indexed and retrieved by the SSN and/or address.

Safeguards:

Security measures include the use of access codes to enter the computer system, which will maintain the data, and storage of the computerized records in secured areas which are accessible only to employees who require the information in performing their official duties. Any paper records will be kept in locked cabinets or in otherwise secured areas. Contractor personnel having access to data in the system of records will be required to adhere to SSA rules concerning safeguards, access and use of the data. SSA and contractor personnel having access to the data will be informed of the criminal penalties of the Privacy Act for unauthorized access to or disclosure of information maintained in this system of records.

Retention and disposal:

Electronic files and other files with personal identifiers are retained in secure areas accessible only to authorized personnel and will be disposed of as soon as they are determined to be no longer needed for contractor or SSA analysis. Means of disposal will be appropriate to the storage medium (e.g., deletion of magnetic discs or shredding of paper records). Records used in administering the demonstration and experimental programs will be retained indefinitely.

System manager(s) and address:

Director, Division of Representative Payment and Evaluation, Office of Program Benefits, Social Security Administration, 6401 Security Boulevard, Baltimore, Maryland 21235.

Notification procedure(s):

An individual can determine if this system of records contains a record about him/her by writing to the systems manager(s) at the above address and providing his/her name, SSN or other information that may be in the system of records that will identify him/her. An individual requesting notification of records in person should provide the same information, as well as provide an identity document, preferably with a photograph, such as a driver's license. If an individual does not have identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth along with one other piece of information such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40).

Record access procedure(s):

Same as “Notification procedures.” Requesters should also reasonably specify the record contents being sought. These procedures are in accordance with SSA Regulations (20 CFR 401.50).

Contesting record procedure(s):

Same as “Notification procedures.” Requesters also should reasonably identify the record, specify the information they are contesting, and state the corrective action sought and the reasons for the correction with supporting justification showing how the record is untimely, incomplete, inaccurate or irrelevant. These procedures are in accordance with SSA Regulations (20 CFR 401.65).

Record source categories:

Data for the system are secured from other SSA systems of records (e.g., Master Beneficiary Record, 60-0090, Supplemental Security Income Record and Special Veterans Benefits, 60-0103 and from other databases available to SSA, such as the Veterans Administration and the Office of Personnel Management benefits files).

Systems exempted from certain provisions of the Act:

None.

[FR Doc. 02-12364 Filed 5-16-02; 8:45 am]

BILLING CODE 4191-02-P